DEPARTMENT OF TRANSPORTATION

Federal Aviation Administration

[Docket No. FAA-2023-1489]

Notice of Intent To Designate as Abandoned Aviation Composite Technologies, Inc., Supplemental Type Certificate SH4537SW

AGENCY: Federal Aviation Administration (FAA), DOT.

ACTION: Notice of intent to designate as abandoned Aviation Composite Technologies, Inc., Supplemental Type Certificate SH4537SW; request for comments.

SUMMARY: This notice announces the FAA's intent to designate Aviation Composite Technologies, Inc., Supplemental Type Certificate (STC) No. SH4537SW as abandoned and make the related engineering data available upon request. The FAA has received a request to provide engineering data concerning this STC. The FAA has been unsuccessful in contacting Aviation Composite Technologies, Inc., concerning the STC. This action is intended to enhance aviation safety.

DATES: The FAA must receive all comments by January 9, 2024.

ADDRESSES: You may send comments on this notice by any of the following methods:

• Federal eRulemaking Portal: Go to regulations.gov. Follow the instructions for submitting comments.

• Mail: Trong Pham, AIR-767, FAA, Central Certification Branch, 10101 Hillwood Parkway, Fort Worth, Texas 76177.

• Email: Trong.Pham@faa.gov. Include “Docket No. FAA-2023-1489” in the subject line of the message.

• Hand Delivery: Deliver to Mail address above between 9 a.m. and 5 p.m., Monday through Friday, except Federal holidays.

FOR FURTHER INFORMATION CONTACT: Trong Pham, Program Manager, AIR-767, FAA, Central Certification Branch, 10101 Hillwood Parkway, Fort Worth, Texas 76177; telephone (817) 222-5137, email Trong.Pham@faa.gov.

SUPPLEMENTARY INFORMATION:

Comments Invited

The FAA invites interested parties to provide comments, written data, views, or arguments relating to this notice. Send your comments to an address listed under the ADDRESSES section. Include “Docket No. FAA-2023-1489” at the beginning of your comments. The FAA will consider all comments received on or before the closing date. All comments received will be available in the docket for examination by interested persons.

Background

The FAA is posting this notice to inform the public of the intent to designate as abandoned Aviation Composite Technologies, Inc., STC No. SH4537SW, for the installation of a radome in Bell Model 206A, 206B, 206L, and 206L-1 helicopters, and subsequently release the related engineering data.

The FAA has received a third-party request for the release of the aforementioned engineering data under the provisions of the Freedom of Information Act (FOIA), 5 U.S.C. 552. The FAA cannot release commercial or financial information under FOIA without the permission of the data owner. However, in accordance with title 49 of the United States Code section 44704(a)(5), the FAA can make STC “engineering data” in possession of the FAA available upon request if the FAA determines that the STC has been inactive for three years or more and, using due diligence, the FAA is unable to locate the owner of record or the owner of record's heir, and the availability of such data will enhance aviation safety. There has been no activity on this STC for more than three years.

On December 15, 2022, the FAA sent a registered letter to Mr. Stephen B. Squires, President of Aviation Composites Technologies, Inc., at its last known address, 601-2 Hawwood Road, Suite 132, Bedford, TX 76021. The letter informed Aviation Composite Technologies, Inc., that the FAA had received a request for engineering data related to STC No. SH4537SW and was conducting a due diligence search to determine whether the STC was inactive and may be considered abandoned. The letter further requested Aviation Composite Technologies, Inc., to respond in writing within 60 days and state whether it is the holder of the STC. The FAA also attempted to make contact with Aviation Composites Technologies, Inc., by other means, including telephone communication, without success.

Information Requested

If you are the owner or heir or a transferee of STC No. SH4537SW or have any knowledge regarding who may now hold STC No. SH4537SW please contact Trong Pham using a method described in this notice under FOR FURTHER INFORMATION CONTACT. If you are the heir of the owner, or the owner by transfer, of STC No. SH4537SW, you must provide a notarized copy of your government-issued identification with a letter and background establishing your ownership of the STC and, if applicable, your relationship as the heir to the deceased holder of the STC.

Conclusion

If the FAA does not receive any response by January 9, 2024, the FAA will consider STC No. SH4537SW abandoned, and the FAA will proceed with the release of the requested data. This action is for the purpose of maintaining the airworthiness of an aircraft and enhancing aviation safety.

Issued on July 8, 2023.
Michael Linegang,
Acting Director, Compliance & Airworthiness Division, Aircraft Certification Service.

[FR Doc. 2023-14852 Filed 7-12-23; 8:45 am]

BILLING CODE 4910-13-P